DEPARTMENT OF THE INTERIOR

Office of the Secretary

[223D0102DM; DS62600000; DLSN00000.000000; DX62601]

Report on the Department of the Interior Federal Financial Assistance Infrastructure Programs Subject to the Build America, Buy America Act Provisions of the Infrastructure Investment and Jobs Act

AGENCY: Department of the Interior.

ACTION: Notice.

SUMMARY: The Department of the Interior (DOI) is publishing a report on DOI Federal Financial Assistance Programs for infrastructure subject to the Build America, Buy America Act Provisions of the Infrastructure Investment and Jobs Act. This report reflects the DOI's initial analysis of financial assistance programs and associated Buy America requirements.

FOR FURTHER INFORMATION CONTACT: Daniel Moline—Policy Analyst, DOI, Office of Grants Management, (202) 513-7546, os_pgm@ios.doi.gov.

SUPPLEMENTARY INFORMATION: This initial analysis, which can be found at following website: https://www.doi.gov/grants/infrastructure-programs is based on the agency's current understanding of information gathered as of the required 60-day reporting deadline. In particular, the DOI is still evaluating the application of the Build America, Buy America Act provisions to contracts and agreements executed under the Indian Self-Determination and Education and Assistance Act, as amended, 25 U.S.C. 5301 et seq. Subject to additional ongoing evaluation and any further Office of Management and Budget (OMB) implementation guidance regarding section 70915 of the Infrastructure Investment and Jobs Act, DOI will work closely with OMB to make any necessary adjustments to this initial list. Therefore, this initial analysis is subject to change.

Consistent with the policy direction of Executive Order 14005: Ensuring the Future is Made in All of America By All of America's Workers, Title IX of the Infrastructure Investment and Jobs Act (IIJA): Build America, Buy America Act imposes new, government-wide domestic content procurement preference requirements on all projects funded through financial assistance programs for infrastructure whether or not those programs are funded through IIJA. Section 70913(a) of IIJA requires each agency to submit a report to OMB and Congress that will be published in the Federal Register. As provided in section 70913(b) of IIJA, this report must:

(1) Identify all domestic content procurement preferences applicable to DOI's Federal financial assistance.

DOI Summary: In reviewing the DOI programs, no DOI programs were identified that are subject to domestic content procurement preferences, as defined in section 70912(2).

(2) Assess the applicability of domestic content procurement preference requirements including:

(A) Section 313 of title 23, United States Code;

(B) section 5323(j) of title 49, United States Code;

(C) section 22905(a) of title 49, United States Code;

(D) section 50101 of title 49, United States Code;

(E) section 603 of the Federal Water Pollution Control Act (33 U.S.C. 1388);

(F) section 1452(a)(4) of the Safe Drinking Water Act (42 U.S.C. 300j-12(a)(4));

(G) section 5035 of the Water Infrastructure Finance and Innovation Act of 2014 (33 U.S.C. 3 3914);

(H) any domestic content procurement preference included in an appropriations Act; and

(I) any other domestic content procurement preference in Federal law (including regulations).

DOI Summary: In reviewing the DOI programs, no DOI programs were identified that are subject to additional domestic content procurement requirements of the above legislation, Appropriations Act, or other domestic content procurement preference in Federal law.

(3) Provide details on any applicable domestic content procurement preference requirement, including the purpose, scope, applicability, and any exceptions and waivers issued under the requirement.

DOI Summary: Given the above responses, the DOI has no further details to provide at this time.

(4) Include a description of the type of infrastructure projects that receive funding under the program, including information relating to:

(A) The number of entities that are participating in the program;

(B) the amount of Federal funds made available for the program for each fiscal year; and

(C) any other information the head of the Federal agency determines to be relevant.

DOI Summary: The DOI reviewed each of its 287 financial assistance programs to identify Federal financial assistance programs for infrastructure. The analysis found in the link above identifies the DOI's initial assessment of financial assistance programs for infrastructure (“Infrastructure Programs”). The types of infrastructure projects pursued under these programs are identified within question 4(c), column K of the analysis.

(5) Section 70913(c) of IIJA requires that the report include a list of “Deficient Programs” which identifies DOI's financial assistance programs for infrastructure (as defined in section 70912(5) of IIJA) for which a domestic content procurement preference requirement does not apply in a manner consistent with section 70914 of IIJA or is subject to a waiver of general applicability not limited to the use of specific products for use in a specific project. Section 70914 requires that all the iron, steel, manufactured products, and construction materials used in projects receiving DOI financial assistance for infrastructure be produced in the United States unless DOI provides a waiver of the requirement or application of the requirement would be inconsistent with the United States' obligations under international agreements.

DOI Summary: As noted above and based on information known at the time of this assessment, all included DOI Infrastructure Programs constitute “Deficient Programs” as defined in the Build America, Buy America Act.

Eric Werwa,
Deputy Assistant Secretary—Policy and Environmental Management, Exercising the Delegated Authority of the Assistant Secretary for Policy, Management and Budget.

[FR Doc. 2022-00958 Filed 1-14-22; 8:45 am]

BILLING CODE 4334-63-P